FEDERAL RESERVE SYSTEM

12 CFR Part 229

[Regulation CC; Docket No. R-1194]

Availability of Funds and Collection of Checks

AGENCY: Board of Governors of the Federal Reserve System.

ACTION: Final rule; correction.

SUMMARY: On May 19, 2004, the Board of Governors published in the Federal Register a final rule amending appendix A of Regulation CC. The rule deleted the reference to the Little Rock check processing office of the Federal Reserve Bank of St. Louis and reassigned the Federal Reserve routing symbols currently listed under that office to the St. Louis Reserve Bank's Memphis office and deleted the reference to the Milwaukee check processing office of the Federal Reserve Bank of Chicago and reassigned the Federal Reserve routing symbols currently listed under that office to the head office of the Federal Reserve Bank of Chicago. This document corrects the effective date of the amendment to appendix A under the Seventh Federal Reserve District (Federal Reserve Bank of Chicago). The original amendatory instruction was effective on August 7, 2004. The corrected effective date is July 24, 2004, which coincides with the effective date of the underlying check processing changes in the Seventh District.

DATES: The correction is effective on July 24, 2004.

FOR FURTHER INFORMATION CONTACT: Jack K. Walton II, Assistant Director (202/452-2660), or Joseph P. Baressi, Senior Financial Services Analyst (202/452-3959), Division of Reserve Bank Operations and Payment Systems; or Adrianne G. Threatt, Counsel (202/452-3554), Legal Division. For users of Telecommunications Devices for the Deaf (TDD) only, contact 202/263-4869. SUPPLEMENTARY INFORMATION:In the final rule, FR Doc. 04-11269, published on May 19, 2004, make the following corrections.

Appendix A to Part 229 [Corrected]

On page 28819, in the first column, correct DATES to read as follows:

DATES: The amendment to Appendix A under the Seventh Federal Reserve District (Federal Reserve Bank of Chicago) and the Eighth Federal Reserve District (Federal Reserve Bank of St. Louis) is effective on July 24, 2004.

On page 28819, in the second and third columns, correct the third sentence of the third paragraph and the second sentence of the fourth paragraph of SUPPLEMENTARY INFORMATION to read as follows:

SUPPLEMENTARY INFORMATION: * * * The Milwaukee office of the Federal Reserve Bank of Chicago will also cease processing checks on July 24, 2004, and banks with routing symbols currently assigned to that office for check processing purposes will be reassigned to the head office of the Federal Reserve Bank of Chicago. * * *

* * * To coincide with the effective date of the underlying check processing changes, the amendments are effective July 24, 2004. * * *

By order of the Board of Governors of the Federal Reserve System, May 24, 2004.
Jennifer J. Johnson
Secretary of the Board.

[FR Doc. 04-12042 Filed 5-26-04; 8:45 am]

BILLING CODE 6210-01-P